DEPARTMENT OF ENERGY

Federal Energy Regulatory Commission

[Docket No. EL00-46-000]

Entergy Power Marketing Corporation v. Southwest Power Pool; Notice of Complaint

February 17, 2000.

Take notice that on February 16, 2000, Entergy Power Marketing Corporation tendered for filing a complaint against the Southwest Power Pool (SPP) alleging violations of the SPP's Open Access Transmission Tariff.

Any person desiring to be heard or to protest this filing should file a motion to intervene or protest with the Federal Regulatory Commission, 888 First Street, NE, Washington, DC 20426, in accordance with Rules 211 and 214 of the Commission's Rules of Practice and Procedure (18 CFR 385.211 and 385.214). All such motions or protests must be filed on or before March 7, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before March 7, 2000.

David P. Boergers,
Secretary.

[FR Doc. 00-4325 Filed 2-23-00; 8:45 am]

BILLING CODE 6717-01-M